CORPORATION FOR NATIONAL AND COMMUNITY SERVICE

Information Collection; Submission for OMB Review, Comment Request

AGENCY: Corporation for National and Community Service.

ACTION: Notice.

SUMMARY: The Corporation for National and Community Service (hereinafter the “Corporation”), has submitted a public information collection request (ICR) entitled the “Day of Service Registration and Reporting” to the Office of Management and Budget (OMB) for review and approval in accordance with the Paperwork Reduction Act of 1995, Public Law 104-13, (44 U.S.C. Chapter 35). Copies of this ICR, with applicable supporting documentation, may be obtained by calling the Corporation for National and Community Service, Mr. David Premo at (202) 606-6717. Individuals who use a telecommunications device for the deaf (TTY-TDD) may call (202) 565-2799 between 8:30 a.m. and 5 p.m. eastern time, Monday through Friday.

ADDRESSES: Comments may be submitted, identified by the title of the information collection activity, to the Office of Information and Regulatory Affairs, Attn: Ms. Sharon Mar, OMB Desk Officer for the Corporation for National and Community Service, by any of the following two methods within 30 days from the date of publication in this Federal Register:

(1) By fax to: (202) 395-6974, Attention: Ms. Sharon Mar, OMB Desk Officer for the Corporation for National and Community Service; and

(2) Electronically by e-mail to: smar@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on July 31, 2009. This comment period ended September 29, 2009. No public comments were received from this notice.

Description: The Corporation seeks to renew the Day of Service Registration and Reporting (Serve.gov). The purpose of this information collection is to help expand volunteering throughout the country. No comments from the public were received in the 60-day comment period. Revisions in the original collection are being made based on recent feedback and input received from the Board of Directors and the external partners. CNCS will no longer be collecting information for the purpose of posting volunteering opportunities for the general public. Numerous organizations provide this service for free. Much of the information we have been collecting is no longer useful.

We will continue to use this information collection for reporting purposes. CNCS stakeholders such as grantees will use it to share activities, promote service and volunteering, and highlight best practices and innovation. We will use this information measure success, for media purposes, for congressional response, and other critical tasks. The submitted collection reflects the minimum information we need to perform these tasks.

Type of Review: Renewal, previously granted emergency clearance.

Agency: Corporation for National and Community Service.

Title: “Day of Service Registration and Reporting (Serve.gov)”.

OMB Number: 3045-0122.

Agency Number: None.

Affected Public: Nonprofit organizations.

Total Respondents: 50,000 respondents for reporting accomplishments.

Frequency: Annual.

Average Time per Response: 20 minutes.

Estimated Total Burden Hours: 16,667 hours.

Total Burden Cost (capital/startup): None.

Total Burden Cost (operating/maintenance): None.

Dated: October 23, 2009.
Rhonda Taylor,
Acting Director, Office of Corporate Relations.

[FR Doc. E9-26139 Filed 10-29-09; 8:45 am]

BILLING CODE 6050-$$-P